NATIONAL SCIENCE FOUNDATION

Special Emphasis Panel for Geosciences: Notice of Meeting

In accordance with the Federal Advisory Committee Act (Pub. L. 92-463, as amended), the National Science Foundation announces the following meeting.

Name: Special Emphasis Panel for Geosciences (1756).

Date/Time: April 27-28, 2000, 8 a.m.-5 p.m.

Place: National Science Foundation, 4201 Wilson Blvd., Room 340, Arlington, VA.

Type of Meeting: Closed.

Contact Person: Bilal Haq, Program Director, Marine Geology & Geophysics, Ocean Sciences Research Section, National Science Foundation, 4201 Wilson Blvd. Arlington, VA 22230. (703) 306-1587.

Purpose of Meeting: To provide advice and recommendations concerning proposals submitted to NSF for financial support.

Agenda: To review and evaluate the MARGINS Program as part of the selection process for awards.

Reason for Closing: The proposal being reviewed includes information of a proprietary or confidential nature, including technical information, financial data, such as salaries; and personal information concerning individuals associated with the proposals. These matters are exempt under 5 U.S.C. 552b(c), (4) and (6) of the Government in The Sunshine Act.

Dated: April 3, 2000.
Karen J. York,
Committee Management Officer.

[FR Doc. 00-8494 Filed 4-5-00; 8:45 am]

BILLING CODE 7555-01-M